ENVIRONMENTAL PROTECTION AGENCY

40 CFR Part 63

[EPA-HQ-OAR-2002-0083; FRL-8196-6]

RIN 2060-AE48

National Emission Standards for Hazardous Air Pollutants for Integrated Iron and Steel Manufacturing Facilities

AGENCY: Environmental Protection Agency (EPA).

ACTION: Final rule.

SUMMARY: This action amends the national emission standards for hazardous air pollutants (NESHAP) for integrated iron and steel manufacturing facilities. The final amendments add a new compliance option, revise emission limitations, reduce the frequency of repeat performance tests for certain emission units, add corrective action requirements, and clarify monitoring, recordkeeping, and reporting requirements.

DATES: Effective Date: This final rule is effective on July 13, 2006.

ADDRESSES: EPA has established a docket for this action under Docket ID No. EPA-HQ-OAR-2002-0083. All documents in the docket are listed on the http://www.regulations.gov Web site. Although listed in the index, some information is not publicly available, e.g., confidential business information or other information whose disclosure is restricted by statute. Certain other material, such as copyrighted material, is not placed on the Internet and will be publicly available only in hard copy form. Publicly available docket materials are available either electronically through http://www.regulations.gov or in hard copy at the Air & Radiation Docket, Docket ID No. EPA-HQ-OAR-2002-0083, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Phil Mulrine, Office of Air Quality Planning and Standards, Sector Policies and Programs Division, Metals and Minerals Group (D243-02), Research Triangle Park, North Carolina 27711, telephone number: (919) 541-5289, fax number: (919) 541-3207, e-mail address: mulrine.phil@epa.gov.

SUPPLEMENTARY INFORMATION: Regulated Entities. The regulated categories and entities affected by the NESHAP include:

Category | NAICS code ¹ | Examples of regulated entities
Industry | 331111 | Integrated iron and steel mills, steel companies, sinter plants, blast furnaces, basic oxygen process furnace (BOPF) shops.
Federal government |  | Not affected.
State/local/tribal government |  | Not affected.
¹ North American Industry Classification System.

This table is not intended to be exhaustive, but rather provides a guide for readers regarding entities likely to be affected by this action. To determine whether your facility is be regulated by this action, you should examine the applicability criteria in 40 CFR 63.7781 of subpart FFFFF (NESHAP for Integrated Iron and Steel Manufacturing Facilities). If you have any questions regarding the applicability of this action to a particular entity, consult either the air permit authority for the entity or your EPA regional representative as listed in 40 CFR 63.13 of subpart A (General Provisions).

Worldwide Web (WWW). In addition to being available in the docket, an electronic copy of today's final action will also be available on the Worldwide Web through the Technology Transfer Network (TTN). Following signature, a copy of the final action will be posted on the TTN's policy and guidance page for newly proposed or promulgated rules at the following address: http://www.epa.gov/ttn/oarpg/. The TTN provides information and technology exchange in various areas of air pollution control.

Judicial Review. Under section 307(b)(1) of the Clean Air Act (CAA), judicial review of the final rule amendments is available only by filing a petition for review in the U.S. Court of Appeals for the District of Columbia Circuit by September 11, 2006. Under section 307(d)(7)(B) of the CAA, only an objection to the final rule amendments that was raised with reasonable specificity during the period for public comment can be raised during judicial review. Moreover, under section 307(b)(2) of the CAA, the requirements established by the final rule amendments may not be challenged separately in any civil or criminal proceedings brought by EPA to enforce these requirements.

Organization of This Document. The information presented in this preamble is organized as follows:

I. Background

II. Summary of the Final Amendments

III. Impacts of the Final Amendments

IV. Response to Comments on the Proposed Amendments

A. Equivalency of Opacity Limit

B. Monitoring Requirements

C. Applicability to Sinter Coolers Without Stacks

D. Applicability to Discharges Inside Buildings

E. Operating Limit

F. Corrective Action

G. Startup, Shutdown, and Malfunctions

H. Applicability of MACT Standards

I. Subsequent Performance Tests for Baghouses

J. Opacity Observations for Sinter Cooler

K. Compliance Date

V. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer Advancement Act

J. Congressional Review Act

I. Background

On May 20, 2003 (68 FR 27646), we issued the NESHAP for integrated iron and steel manufacturing facilities (40 CFR part 63, subpart FFFFF). The NESHAP implement section 112(d) of the CAA by requiring all major sources to meet emission standards for hazardous air pollutants (HAP) reflecting application of the maximum achievable control technology (MACT). The NESHAP establish emission limitations for emission sources in each new or existing sinter plant, blast furnace, and basic oxygen process furnace (BOPF) shop.

After publication of the NESHAP, five steel companies and one trade association filed a petition for review challenging the final standards (AK Steel Corporation et al. v. U.S. Environmental Protection Agency, no. 03-1207, D.C. Cir.). The petitioners raised the following issues:

• Failing to respond to substantive industry comments questioning the definitions, subcategorization, control technologies identified, emission standards, testing and monitoring, and other aspects of the proposed rule;

• Failing to provide justification for setting standards for ladle metallurgy operations, sinter plant discharge ends, and sinter coolers;

• Requiring bag leak detection systems to be used for positive pressure baghouse systems that discharge without stacks or from baghouse systems with continuous emission monitors;

• Applying emission standards to control devices that do not discharge to the ambient air;

• Imposing stringent testing, monitoring, inspection, and reporting requirements on insignificant sources;

• Providing for the establishment of source-specific opacity limitations based on opacity observations made during required source performance testing and by specifying use of infeasible technical requirements for such observations; and

• Failing to adequately consider health threshold levels and to allow for alternative emission standards, performance testing requirements or monitoring methods that are demonstrated to provide comparable protection to public health and the environment.

EPA and industry petitioners entered into a settlement agreement whereby EPA agreed to sign a notice proposing certain amendments by September 23, 2005. See 70 FR 36383, June 23, 2005 (public notice of settlement agreement pursuant to section 113 of the CAA; EPA received no adverse comment on this notice of settlement). These amendments were proposed on August 30, 2005 (70 FR 51306). Three organizations commented on the proposed amendments during the 60-day comment period which ended on October 31, 2005. EPA and the petitioners anticipate that the final amendments to the NESHAP will resolve the petitioners' concerns.

II. Summary of the Final Amendments

The final amendments revise the applicability of the emission limits for sinter cooler stacks at new and existing sinter plants. The revised limits apply to each sinter cooler instead of to each sinter cooler stack. The final amendments also establish a 10 percent opacity limit for a sinter cooler at an existing sinter plant instead of the particulate matter (PM) emission limit of 0.03 grains per dry standard cubic feet (gr/dscf). In response to comments, we have added a new compliance date for a sinter cooler at an existing sinter plant and require compliance by January 13, 2007. We have also added a provision to the opacity test procedures which describes the general direction an observer should take for observations of uncovered portions of sinter coolers.

The final amendments add a new footnote to Table 1 of subpart FFFFF to clarify that PM limits do not apply to discharges inside a building or structure housing a discharge end at an existing sinter plant, inside a casthouse at an existing blast furnace, or inside an existing basic oxygen process furnace (BOPF) shop because these discharges are subject to opacity limits. In response to comments, we have revised the proposed footnote to clarify that it applies only to control devices installed before August 30, 2005.

The frequency for conducting subsequent performance tests has been changed from twice each permit term to once each permit term for emission units equipped with a baghouse. Repeat performance tests are still required at least twice each permit term for a sinter cooler at an existing sinter plant, for each unit equipped with a control device other than a baghouse, and each affected source without a title V operating permit.

The final amendments also revise the operating limit in 40 CFR 63.7790(b)(3) for an electrostatic precipitator (ESP) that controls emissions from a BOPF. The revised operating limit requires the plant owner or operator to maintain the hourly average opacity of emissions from the control device at or below 10 percent.

Section 63.7830(b) of the NESHAP requires a bag leak detection system for each baghouse used to meet a PM limit. The final amendments add an alternative allowing plants to use a continuous opacity monitoring system (COMS) to monitor the opacity of emissions exiting each control device stack. A bag leak detection system or COMS is not required for a positive-pressure baghouse not equipped with exhaust gas stacks that was installed before August 30, 2005.

The final amendments revise the requirements for operation and maintenance (O&M) plans. The corrective action procedures in 40 CFR 63.7800(b)(4) are expanded to apply to baghouses equipped with COMS in addition to those with bag leak detection systems. Plants must initiate corrective action if a bag leak detection system alarm is triggered or if emissions from a baghouse equipped with a COMS exceed an hourly average opacity of 5 percent.

Corrective action procedures also apply to other types of control devices. If a venturi scrubber equipped with continuous parameter monitoring systems (CPMS) or an ESP equipped with a COMS exceeds the opacity operating limit, plants must take corrective action consistent with their site-specific monitoring plan. New provisions added to 40 CFR 63.7833 require plants to initiate corrective action to determine the cause of the exceedance within 1 hour and to measure operating parameter value(s) for the emission unit within 24 hours of the exceedance. If the measured value(s) meet the applicable operating limit, the corrective action is successful and the emission unit is in compliance with the applicable operating limit. If the initial corrective action is not successful, additional corrective action is required within the next 24 hours. Plants must re-measure the operating parameter(s) and if the corrective action is successful, the emission unit is in compliance with the applicable operating limit. If the second attempt at corrective action is not successful, the plant must report the exceedance as a deviation in the next semiannual compliance report.

The final amendments also clarify the requirements for establishing venturi scrubber parametric operating limits in 40 CFR 63.7824(b) by stating that plants may establish the limit during the initial performance test or during any other performance test that meets the emission limit. We have also revised the definition of “ladle metallurgy” by stating that vacuum degassing is not included in the definition. The final amendments also make clarifying changes to certain monitoring, recordkeeping, and reporting requirements cited in Table 4 to subpart FFFFF (Applicability of General Provisions to Subpart FFFFF) and correct errors in certain entries.

III. Impacts of the Final Amendments

The final amendments do not affect the level of emissions control required by the existing NESHAP or the nonair, health, environmental, and energy impacts. However, the costs of implementing the existing rule will be reduced in future years. For example, the reduction in subsequent performance tests for an emissions source equipped with a baghouse will reduce the nationwide cost of PM testing over the next 5 years from $270,000/year to $180,000/year, a savings of $90,000/year.

IV. Response to Comments on the Proposed Amendments

A. Equivalency of Opacity Limit

Comment: One commenter asked if the opacity limit for sinter coolers would achieve the same emission level, be equally protective of public health, and measure the same pollutants and the same levels of emissions as the PM limit of 0.03 gr/dscf?

Response: The opacity limit is a better representation of the MACT floor and will ensure that all sinter coolers perform at the MACT level of control or better. The limit will achieve lower emission levels (and presumably be more protective of public health) than the concentration limit of 0.03 gr/dscf in the current rule because it will apply to all sinter coolers, not just to those with stacks. However, we did not perform a risk analysis and evaluate protection of public health for the MACT standard because residual risk will be assessed no later than 8 years following the promulgation of the MACT standard (section 112(f)(2) of the CAA). See Sierra Club v. EPA, 353 F.3d 976, 990 (D.C. Cir. 2004) (Roberts, J.) (EPA is not to consider risk when promulgating section 112(d) MACT standards because that is the province of the residual risk analysis to be conducted under section 112(f)). The opacity limit and concentration limit are a measure of the same pollutant, PM, which is a surrogate for particulate metal HAP.

B. Monitoring Requirements

Comment: One commenter stated that the reason for changing to an opacity limit was the inability to measure PM emissions from sinter coolers without stacks. The commenter expressed concerne that the MACT technology is not being achieved for monitoring or measuring emissions and asked if this would be a problem if a facility were required to modernize its monitoring equipment to implement MACT. The commenter recommended that a MACT standard be implemented for monitoring to ensure the best monitoring technology is in place.

Response: MACT standards are based on the level of control achieved by the best-performing sources and a further evaluation of what further reductions could be achieved considering cost, energy, and nonair environmental impacts. Continuous monitoring requirements are not determined by a MACT floor or beyond-the-floor analysis. The continuous monitoring requirements are selected after consideration of many factors, such as the type of control device, source characteristics, and how to ensure that the MACT emission limit is being met on a continuous basis. The standard requires monitoring of capture and control systems to ensure they are operating properly, and these monitoring requirements are provided in the section of the rule entitled “Continuous Compliance Requirements” (40 CFR 63.7830 through 63.7835). See also Sierra Club, 353 F.3d at 991 (CAA section 114(a)(3) does not require continuous monitoring). For fugitive emissions that by definition are not emitted through stacks, opacity observations by EPA Method 9 (40 CFR part 60, appendix A) are the most effective means of monitoring to ensure compliance. We are not aware of a monitoring technology that is better than Method 9 for fugitive emissions.

C. Applicability to Sinter Coolers Without Stacks

Comment: One commenter believed that the proposed amendments did not apply an emission limit to sinter coolers without stacks.

Response: The commenter misunderstood the proposed rule amendments. The proposed amendments applied a MACT emission limit of 10 percent opacity to coolers without stacks.

D. Applicability to Discharges Inside Buildings

Comment: One commenter pointed out that the proposed amendments did not apply to discharges inside buildings and asked if the health of workers would be adequately protected from these emissions. Does this open a loophole that allows a facility to discharge inside a building to avoid an emission limit? What if the air discharged inside a building is emitted to the ambient air through the ventilation system?

Response: The capture and control systems reduce worker exposure to fugitive emissions that occur within the building. The air discharged inside the building exits through the building's roof monitor. The applicable emission limit for emissions from the building is the opacity limit, and the air discharged inside the building is subject to this limit. However, we agree that control devices installed on or after proposal of the final amendments (August 30, 2005) should be designed and operated to meet the PM emissions limit, and we are including this provision in the final amendments.

E. Operating Limit

Comment: One commenter asked if the hourly average operating limit for monitoring electrostatic precipitators (ESP) included time when the facility is not operating. If so, the facility could average in zeros to meet the hourly limit. The commenter stated that changing from a 6-minute average to an hourly average did not appear to be protective of public health.

Response: The hourly average does not include time when the facility is not operating because BOPF shops contain two steelmaking furnaces (a few have three furnaces), and at least one of these furnaces is almost always at some point in the steel production cycle. For example, if one furnace finishes a steelmaking “heat”, the second furnace begins a heat while the first furnace is being tapped. The exception is during a shutdown, and in that case, parametric monitoring is not required or relevant.

As we stated earlier, residual risk remaining after the MACT standard and the extent to which further risk-based controls may be needed to protect public health with an ample margin of safety will be assessed 8 years following the promulgation of the MACT standard.

F. Corrective Action

Comment: One commenter said that the proposed corrective action procedures for ESP and baghouses are flawed because they do not require the facility to correct the problem and only require they report it in their semiannual compliance report. The authorized agency should be notified immediately of the violation. Otherwise, the agency may not know about the violation until 6 months later. In general, EPA should require monthly reports instead of semiannual reports so that the implementing agency and public know much sooner when a violation occurs, and an appropriate remedy can be instigated much sooner.

Response: This comment is beyond the scope of the proposed amendments. We did not propose any changes to the NESHAP that affected the semiannual reporting requirements or otherwise reopened the issue of the appropriateness of those requirements; consequently, they are not subject to public comment. In the event any response is considered necessary, however, we note that the semiannual reporting requirements are consistent with § 63.10(e)(3) of the General Provisions (40 CFR part 63, subpart A), and we have no reason to impose more stringent requirements for the integrated iron and steel industry.

For more background, the commenter should examine our responses to public comments on semiannual reporting requirements in our final rule amendments to the General Provisions that reduced recordkeeping and reporting requirements (64 FR 7458, February 12, 1999). We explained that:

* * * EPA's experience over the past ten years with a variety of NSPS and NESHAP rulemakings covering industries of all types suggests that semi-annual reporting provides sufficiently timely information to both ensure compliance and enable adequate enforcement of applicable requirements, while imposing less burden on the affected industry than would quarterly reporting.

It is in the facility's interest to ensure that the corrective actions are successful to avoid penalties and fines. The facility may be found in violation and subject to penalties and fines if the corrective actions continue to be unsuccessful. A continued pattern of non-compliance may be considered in determining the magnitude of penalties.

G. Startup, Shutdown, and Malfunctions

Comment: One commenter stated that the startup, shutdown, and malfunction (SSM) requirements were not protective enough because they allow a facility to craft a plan such that an SSM event is not an exceedance as long as the facility's response is consistent with the SSM plan. Furthermore, the facility should not be allowed to modify the SSM plan without prior Administrator approval.

Response: This comment is also beyond the scope of the proposed amendments. We did not propose, solicit comment on, or otherwise reopen this issue. If any response is considered necessary, however, we note that the SSM requirements come directly from the NESHAP General Provisions in 40 CFR part 63, and we have no reason to implement different requirements for this standard.

For further information, the commenter can consult our proposed amendments to the General Provisions (70 FR 43992, July 29, 2005). In that notice we discuss the “general duty clause” in the General Provisions and note that:

* * * following the SSM plan itself is no “safe harbor” for sources if the plan is found to be deficient. That is, a source could not use “following the plan” as a defense for an inadequate program to minimize emissions.

With respect to review of the plan or revisions, we stated:

Review of each SSM plan, from each facility, by the permitting authority, for adequacy prior to implementation is neither reasonable nor necessary. There are thousands of sources required to develop SSM plans, and each plan is tailored to its source. Some plans are closely tied and cross referenced to other operating materials at the source. Many, and perhaps most, plans contain CBI. The burden on the permitting authorities to review every plan would be enormous.

However, it is important to note that the Administrator (or an authorized permitting authority) may at any time require a facility owner or operator to submit a copy of an SSM plan.

H. Applicability of MACT Standards

Comment: One commenter asked if MACT standards were still in place with the proposed change that requires bag leak detection systems only for baghouses with stacks.

Response: The MACT standards are still in place for all affected sources operating with baghouses. All such sources are subject to a MACT PM emissions limit expressed in gr/dscf. In addition, all baghouses are subject to extensive inspection and monitoring requirements in § 63.7831(b)(4). The requirements applying to all baghouses include daily monitoring of pressure drop across each baghouse cell, weekly visual inspections to confirm dust is removed from hoppers, daily checks of compressed air supply for pulse-jet baghouses, monitoring cleaning cycles, monthly checks of the bag cleaning mechanism and bag tension, and inspections to assess physical integrity and fan wear or corrosion.

I. Subsequent Performance Tests for Baghouses

Comment: One commenter objected to the change of requiring performance tests every 2.5 years to every 5 years for baghouses. The reasoning that bag leak detection systems are in place is not adequate justification because they may not be working properly. The commenter also asked EPA to clarify what a “minor” emission unit means and asked if major units would be affected by the reduction in the frequency of performance testing.

Response: A performance test provides a “snap shot” of performance, usually as the average of three 1-hour runs. However, we require continuous monitoring of the control device, and in this case, bag leak detectors provide assurance of proper operation on a continuous basis. Section 63.7831(f) of the rule provides detailed requirements for the proper installation, operation, and maintenance of bag leak detectors. Moreover, the monitoring requirements in § 63.7830(b)(4) discussed earlier include inspections and other monitoring in addition to the bag leak detection system. The combination of bag leak detectors and the extensive inspection and monitoring requirements for baghouses provide more assurance of proper operation than would more frequent snapshot performance tests. Consequently, we concluded that performance testing more frequently than once per permit term for these baghouses was not necessary. This testing frequency is consistent with many existing operating permits.

We used the term “minor” in a qualitative way (i.e., it is not a term defined in the rule) to describe baghouses applied to ancillary processes that do not generate the large volume of emissions associated with primary production processes such as the sinter plant windboxes and steelmaking furnaces. The ancillary processes include hot metal transfer, desulfurization, and ladle metallurgy.

J. Opacity Observations of Sinter Cooler

Comment: In principle, the commenter supports EPA's decision to revise the emission limit for sinter coolers from a grain loading limit to an opacity limit because some sinter coolers are open to the ambient air, with their emissions to the atmosphere being fugitive in nature, rather than through a stack. However, the commenter feels that design considerations at some sinter coolers that do not use a stack make accurate opacity observations problematic. At the commenter's sinter plant, air is forced upward through the cooler bed, a donut-shaped ring approximately 5 feet wide and 50 feet in diameter at its outside edge. Emissions rise upward from the bed and into the atmosphere. The commenter contends that a visible emission observer would have a difficult time accurately assessing opacity due to overlapping or mingling of other plumes. These plumes are primarily from the discharge end of the sinter strand, from material handling sources, and from the side of the cooler that is directly opposite of the side from which the observations are recorded. Similarly, the commenter feels that heat waves from one side of the cooler can interfere with the accuracy of opacity readings made from the other side of the cooler. The commenter argues that these conditions can impart a positive bias to the readings, which could raise the potential for exceedances of the opacity standard. The commenter requests language in the final rule that provides for a work practice/operational standard in lieu of the opacity standard.

Response: Representatives of EPA and the State agency visited the commenter's sinter plant and evaluated the commenter's concerns regarding an observer's ability to perform accurate visible emissions observations. We agree that performing visible emissions observations at this source is more problematic than at most sources. First, performing observations from ground level at this source does not give the observer an adequate view of all potential emission sources in proximity to the cooler. An observer could mistake emissions from the sinter strand discharge end for cooler emissions, and therefore, readings should be taken from some elevated level. We identified at least two elevated positions at this source from which observations can be made. However, while there are a number of platforms that are adjacent to the cooler that are accessible for this purpose, we acknowledge that the east platform is situated such that intense heat from the bed is likely to disqualify this position as a safety matter.

Regarding the commenter's concerns related to emissions from one side of the cooler interfering with the accurate observations of emissions from the opposite side of the cooler, we concluded that this issue is adequately addressed by existing rule language and guidance for EPA Method 9 (40 CFR part 60, appendix A). While there can be emissions from the feed end of the cooler, these emissions will decrease essentially to zero a short distance from the feed end. When no emissions are visible from the opposite side of the cooler, Method 9 observations of the sinter cooler can occur without multiple plume distortion. As a regulatory matter, reading through multiple plumes is essentially prohibited by section 2.1 of Method 9. Therefore, if any visible emissions arise from the discharge side of the sinter cooler during the Method 9 test that cause an interference with sinter cooler readings, the test must be discontinued.

A similar issue is the potential interference from heat waves. We agree that heat waves can have an influence (positive bias) on readings, depending on their intensity and relative location to the observer and the plume that is being read. Additional language in section 2.1 of Method 9 provides direction on how this should be addressed: “The qualified observer shall stand at a distance sufficient to provide a clear view of the emissions * * *”. This language dictates that the observer must be far enough from the heat waves and at such an angle to ensure that observations are made at such a height as to remove any potential interference. We feel that this language also addresses the commenter's concerns regarding other potential emission sources. Consequently, we do not see a need to change the rule language to address this issue.

We decided that two other issues raised by the commenter during the site visit warrant discussion. One issue is that Method 9 does not address in what general direction an observer should be viewing an emission source of this type. If the observer is looking tangentially along the arc of the cooler, readings would have a positive bias compared to the observer looking approximately perpendicular to the tangent of the bed generally toward the center of the cooler. We have added language to the rule to clarify this. The second issue relates to potential positive bias due to luminescence of the plume and background used. This is mentioned in the preamble to Method 9 as exerting an influence on the appearance of a plume. Numerous structures near the sinter plant cooler can cause the plume being observed and/or the background to be in shadows. Consistent with Method 9, observers of sinter coolers should not read opacity when shadows may influence observations. Because this issue is discussed in the preamble to Method 9, we decided that the language in the current rule should not be changed.

We have considered the commenter's request for the option of an alternative work practice or operating standard, in lieu of an opacity standard. However, there are too many process variables that can affect emissions from the cooler to provide for a meaningful alternative. These variables include the types of raw materials used in the sintering process, bed depth, bed speed, uniformity of the surface of the bed, fan speed, and the condition of the grates, windbox ductwork, and fan. Changing just one of these variables may be insufficient to affect cooler emissions. Changes to a combination of variables may be needed at one point in time, where a different combination may be needed at another point in time.

K. Compliance Date

Comment: Sinter coolers without stacks were not regulated under the original PM limit, but would be regulated for the first time under the proposed opacity limit. Two commenters requested a 3-year extension from the compliance date of the original rule (May 22, 2006). This would allow time to design a compliance strategy, evaluate control options, and install controls that may be necessary to comply with the new standard.

Response: We agree that the 10 percent opacity limit is a new standard for sinter coolers. We concluded that it is permissible for us to establish a new compliance date for the sinter cooler standard, i.e., a compliance date not tied to the compliance date of the previous standard for sinter coolers in the original rule. See CAA section 112(i)(3)(A) (which ties compliance dates to the effective dates of “any emissions standard” promulgated under section 112, and so does not tie the date to an initially adopted standard). However, compliance is still to be as expeditious as possible. It is our engineering judgment that 6 months from date of publication is a reasonable time for compliance for most sources because most sources will not have to install additional controls. It is possible that individual sources may require more time to comply and may petition EPA for more time pursuant to the case-by-case extension mechanism in CAA section 112(i)(3)(B), which is codified in 40 CFR 63.6(i)(4)(i). This provision allows individual sources to submit compliance extension requests of up to 1 year where the extension is necessary for the installation of controls.

V. Statutory and Executive Order Reviews

A. Executive Order 12866: Regulatory Planning and Review

Under Executive Order 12866 (58 FR 51735, October 4, 1993), EPA must determine whether the regulatory action is “significant” and, therefore, subject to review by the Office of Management and Budget (OMB) and the requirements of the Executive Order. The Executive Order defines a “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlement, grants, user fees, or loan programs or the rights and obligations of recipients thereof; or

(4) Raise novel legal or policy issues arising out of legal mandates, the President's priorities, or the principles set forth in the Executive Order.

It has been determined that the final rule amendments are not a “significant regulatory action” under the terms of Executive Order 12866 and are, therefore, not subject to OMB review.

B. Paperwork Reduction Act

This action does not impose any new information collection burden. The final amendments provide additional flexibility through revised requirements for monitoring operational parameters which would not increase the existing information collection burden. Other changes, such as the reduction in subsequent PM performance tests for certain emissions sources, are expected to decrease the information collection burden in future years. However, OMB has previously approved the information collection requirements contained in the existing regulations (40 CFR part 63, subpart FFFFF) under the provisions of the Paperwork Reduction Act, 44 U.S.C. 3501 et seq., and has assigned OMB control number 2060-0517, EPA Information Collection Request (ICR) number 2003.02. A copy of the OMB-approved ICR may be obtained from Susan Auby, Collection Strategies Division, U.S. EPA (2822T), 1200 Pennsylvania Ave., NW., Washington, DC 20460, by e-mail at auby.susan@epa.gov, or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR part 63 are listed in 40 CFR part 9.

C. Regulatory Flexibility Act

EPA has determined that it is not necessary to prepare a regulatory flexibility analysis in connection with these final rule amendments.

For the purposes of assessing the impacts of today's proposed amendments on small entities, small entity is defined as: (1) A small business as defined by the Small Business Administration at 13 CFR 121.201; (2) a small governmental jurisdiction that is a government of a city, county, town, school district, or special district with a population of less than 50,000; and (3) a small organization that is any not-for-profit enterprise which is independently owned and operated and is not dominant in its field.

After considering the economic impacts of today's final rule amendments on small entities, EPA has concluded that this action will not have a significant economic impact on a substantial number of small entities. The final rule amendments will not impose any requirements on small entities. None of the regulated integrated iron and steel manufacturing facilities are small businesses.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in the aggregate, or to the private sector, of $100 million or more in any 1 year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

EPA has determined that the final rule amendments do not contain a Federal mandate that may result in expenditures of $100 million or more for State, local, and tribal governments, in the aggregate, or to the private sector in any 1 year. Thus, today's final rule amendments are not subject to the requirements of sections 202 and 205 of the UMRA. In addition, EPA has determined that the final rule amendments contain no regulatory requirements that might significantly or uniquely affect small governments, because they contain no requirements that apply to such governments or impose obligations upon them.

E. Executive Order 13132: Federalism

Executive Order 13132, entitled “Federalism” (64 FR 43255, August 10, 1999) requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

The final rule amendments do not have federalism implications. They would not have substantial direct effects on the States, on the relationship between the national government and the States, or on the distribution of power and responsibilities among the various levels of government, as specified in Executive Order 13132. None of the affected plants are owned or operated by State governments. Thus, Executive Order 13132 does not apply to the final rule amendments.

F. Executive Order 13175: Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” The final rule amendments do not have tribal implications, as specified in Executive Order 13175. No tribal governments own plants subject to the MACT standards for integrated iron and steel manufacturing. Thus, Executive Order 13175 does not apply to the final rule amendments.

G. Executive Order 13045: Protection of Children From Environmental Health and Safety Risks

Executive Order 13045 (62 FR 19885, April 23, 1997) applies to any rule that: (1) Is determined to be “economically significant,” as defined under Executive Order 12866, and (2) concerns an environmental health or safety risk that EPA has reason to believe may have a disproportionate effect on children. If the regulatory action meets both criteria, EPA must evaluate the environmental health or safety effects of the planned rule on children, and explain why the planned regulation is preferable to other potentially effective and reasonably feasible alternatives considered by EPA.

EPA interprets Executive Order 13045 as applying only to those regulatory actions that are based on health or safety risks, such that the analysis required under section 5-501 of the Executive Order has the potential to influence the regulation. The final rule amendments are not subject to the Executive Order because they are based on control technology and not on health or safety risks.

H. Executive Order 13211: Actions That Significantly Affect Energy Supply, Distribution, or Use

The final rule amendments are not subject to Executive Order 13211 (66 FR 28355, May 22, 2001) because they are not a significant regulatory action under Executive Order 12866.

I. National Technology Transfer Advancement Act

Section 12(d) of the National Technology Transfer and Advancement Act of 1995 (NTTAA), Public Law 104-113, 15 U.S.C. 272 note) directs EPA to use voluntary consensus standards (VCS) in its regulatory activities, unless to do so would be inconsistent with applicable law or otherwise impractical. The VCS are technical standards (e.g., materials specifications, test methods, sampling procedures, and business practices) that are developed or adopted by one or more VCS bodies. The NTTAA directs EPA to provide Congress, through OMB, explanations when the Agency does not use available and applicable VCS.

The final rule amendments do not involve technical standards. Therefore, EPA is not considering the use of any VCS.

J. Congressional Review Act

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. EPA will submit a report containing the final amendments and other required information to the U.S. Senate, the U.S. House of Representatives, and the Comptroller General of the United States prior to publication of the final amendments in the Federal Register. A major rule cannot take effect until 60 days after it is published in the Federal Register. This action is not a “major rule” as defined by 5 U.S.C. 804(2). The final amendments are effective on July 13, 2006.

List of Subjects in 40 CFR Part 63

Environmental protection, Air pollution control, Hazardous substances, Reporting and recordkeeping requirements.

Dated: July 6, 2006.
Stephen L. Johnson,
Administrator.

For the reasons stated in the preamble, title 40, chapter I, part 63 of the Code of Federal Regulations is amended as follows:

PART 63—[AMENDED]

1. The authority citation for part 63 continues to read as follows:

Authority: 42 U.S.C. 7401, et seq.

Subpart FFFFF—[AMENDED]

2. Section 63.7783 is amended by revising paragraph (a) to read as follows:

§ 63.7783 When do I have to comply with this subpart?

(a) If you have an existing affected source, you must comply with each emission limitation and operation and maintenance requirement in this subpart that applies to you by the dates specified in paragraphs (a)(1) and (2) of this section.

(1) No later than May 22, 2006 for all emissions sources at an existing affected source except for a sinter cooler at an existing sinter plant.

(2) No later than January 13, 2007 for a sinter cooler at an existing sinter plant.

* * * * *

3. Section 63.7790 is amended by revising paragraph (b)(3) to read as follows:

§ 63.7790 What emission limitations must I meet?

* * * * *

(b) * * *

(3) For each electrostatic precipitator applied to emissions from a BOPF, you must maintain the hourly average opacity of emissions exiting the control device at or below 10 percent.

* * * * *

4. Section 63.7800 is amended by:

a. Revising the second sentence in paragraph (b) introductory text;

b. Revising paragraph (b)(4) introductory text;

c. Revising paragraph (b)(4)(vi);

d. Redesignating paragraph (b)(5) as (b)(7); and

e. Adding new paragraphs (b)(5) and (b)(6) to read as follows:

§ 63.7800 What are my operation and maintenance requirements?

* * * * *

(b) * * * Each plan must address the elements in paragraphs (b)(1) through (7) of this section.

* * * * *

(4) Corrective action procedures for baghouses equipped with bag leak detection systems or continuous opacity monitoring systems (COMS). In the event a bag leak detection system alarm is triggered or emissions from a baghouse equipped with a COMS exceed an hourly average opacity of 5 percent, you must initiate corrective action to determine the cause of the alarm within 1 hour of the alarm, initiate corrective action to correct the cause of the problem within 24 hours of the alarm, and complete the corrective action as soon as practicable. Corrective actions may include, but are not limited to:

* * * * *

(vi) Shutting down the process producing the particulate emissions.

(5) Corrective action procedures for venturi scrubbers equipped with continuous parameter monitoring systems (CPMS). In the event a venturi scrubber exceeds the operating limit in § 63.7790(b)(2), you must take corrective actions consistent with your site-specific monitoring plan in accordance with § 63.7831(a).

(6) Corrective action procedures for electrostatic precipitators equipped with COMS. In the event an electrostatic precipitator exceeds the operating limit in § 63.7790(b)(3), you must take corrective actions consistent with your site-specific monitoring plan in accordance with § 63.7831(a).

* * * * *

5. Section 63.7821 is revised to read as follows:

(a) You must conduct subsequent performance tests to demonstrate compliance with all applicable PM and opacity limits in Table 1 to this subpart at the frequencies specified in paragraphs (b) through (d) of this section.

(b) For each sinter cooler at an existing sinter plant and each emissions unit equipped with a control device other than a baghouse, you must conduct subsequent performance tests no less frequently than twice (at mid-term and renewal) during each term of your title V operating permit.

(c) For each emissions unit equipped with a baghouse, you must conduct subsequent performance tests no less frequently than once during each term of your title V operating permit.

(d) For sources without a title V operating permit, you must conduct subsequent performance tests every 2.5 years.

6. Section 63.7823 is amended by adding paragraph (e) to read as follows:

§ 63.7823 What test methods and other procedures must I use to demonstrate initial compliance with the opacity limits?

* * * * *

(e) To determine compliance with the applicable opacity limit in Table 1 to this subpart for a sinter cooler at an existing sinter plant:

(1) Using a certified observer, determine the opacity of emissions according to Method 9 in appendix A to part 60 of this chapter.

(2) Obtain a minimum of 30 6-minute block averages.

(3) Make visible emission observations of uncovered portions of sinter plant coolers with the observer's line of sight generally in the direction of the center of the cooler.

7. Section 63.7824 is amended by:

a. Adding a second sentence to the end of paragraph (b) introductory text;

b. Revising paragraph (b)(1);

c. Removing paragraph (c);

d. Redesignating paragraphs (d) through (g) as paragraphs (c) through (f);

e. Revising newly designated paragraph (c) introductory text and newly designated paragraph (c)(3);

f. Revising newly designated paragraph (d) introductory text; and

g. Revising newly designated paragraph (e) introductory text and newly designated paragraph (e)(4) to read as follows:

§ 63.7824 What test methods and other procedures must I use to establish and demonstrate initial compliance with operating limits?

* * * * *

(b) * * * You may establish the parametric monitoring limit during the initial performance test or during any other performance test run that meets the emission limit.

(1) Using the CPMS required in § 63.7830(c), measure and record the pressure drop and scrubber water flow rate during each run of the particulate matter performance test.

* * * * *

(c) You may change the operating limits for a capture system or venturi scrubber if you meet the requirements in paragraphs (c)(1) through (3) of this section.

* * * * *

(3) Establish revised operating limits according to the applicable procedures in paragraphs (a) and (b) of this section for a control device or capture system.

(d) For each sinter plant subject to the operating limit for the oil content of the sinter plant feedstock in § 63.7790(d)(1), you must demonstrate initial compliance according to the procedures in paragraphs (d)(1) through (3) of this section.

* * * * *

(e) To demonstrate initial compliance with the alternative operating limit for volatile organic compound emissions from the sinter plant windbox exhaust stream in § 63.7790(d)(2), follow the test methods and procedures in paragraphs (e)(1) through (5) of this section.

* * * * *

(4) Continue the sampling and analysis procedures in paragraphs (e)(1) through (3) of this section for 30 consecutive days.

* * * * *

8. Section 63.7825 is amended by:

a. Revising paragraphs (a)(2) and (a)(3);

b. Removing paragraph (a)(4); and

c. Revising paragraph (b) to read as follows:

§ 63.7825 How do I demonstrate initial compliance with the emission limitations that apply to me?

(a) * * *

(2) For each capture system subject to the operating limit in § 63.7790(b)(1), you have established appropriate site-specific operating limit(s) and have a record of the operating parameter data measured during the performance test in accordance with § 63.7824(a)(1); and

(3) For each venturi scrubber subject to the operating limits for pressure drop and scrubber water flow rate in § 63.7790(b)(2), you have established appropriate site-specific operating limits and have a record of the pressure drop and scrubber water flow rate measured during the performance test in accordance with § 63.7824(b).

(b) For each existing or new sinter plant subject to the operating limit in § 63.7790(d)(1), you have demonstrated initial compliance if the 30-day rolling average of the oil content of the feedstock, measured during the initial performance test in accordance with § 63.7824(d) is no more than 0.02 percent. For each existing or new sinter plant subject to the alternative operating limit in § 63.7790(d)(2), you have demonstrated initial compliance if the 30-day rolling average of the volatile organic compound emissions from the sinter plant windbox exhaust stream, measured during the initial performance test in accordance with § 63.7824(e) is no more than 0.2 lb/ton of sinter produced.

* * * * *

9. Section 63.7826 is amended by revising paragraph (b)(1) to read as follows:

§ 63.7826 How do I demonstrate initial compliance with the operation and maintenance requirements that apply to me?

* * * * *

(b) * * *

(1) Prepared the control device operation and maintenance plan according to the requirements of § 63.7800(b), including a preventative maintenance schedule and, as applicable, detailed descriptions of the corrective action procedures for baghouses and other control devices;

* * * * *

10. Section 63.7830 is amended by revising paragraphs (b), (d), (e)(1), and (e)(2) to read as follows:

§ 63.7830 What are my monitoring requirements?

* * * * *

(b) Except as provided in paragraph (b)(3) of this section, you must meet the requirements in paragraph (b)(1) or (2) of this section for each baghouse applied to meet any particulate emission limit in Table 1 to this subpart. You must conduct inspections of each baghouse according to the requirements in paragraph (b)(4) of this section.

(1) Install, operate, and maintain a bag leak detection system according to § 63.7831(f) and monitor the relative change in particulate matter loadings according to the requirements in § 63.7832; or

(2) If you do not install and operate a bag leak detection system, you must install, operate, and maintain a COMS according to the requirements in § 63.7831(h) and monitor the hourly average opacity of emissions exiting each control device stack according to the requirements in § 63.7832.

(3) A bag leak detection system and COMS are not required for a baghouse that meets the requirements in paragraphs (b)(3)(i) and (ii) of this section.

(i) The baghouse is a positive pressure baghouse and is not equipped with exhaust gas stacks; and

(ii) The baghouse was installed before August 30, 2005.

(4) You must conduct inspections of each baghouse at the specified frequencies according to the requirements in paragraphs (b)(4)(i) through (viii) of this section.

(i) Monitor the pressure drop across each baghouse cell each day to ensure pressure drop is within the normal operating range identified in the manual.

(ii) Confirm that dust is being removed from hoppers through weekly visual inspections or other means of ensuring the proper functioning of removal mechanisms.

(iii) Check the compressed air supply for pulse-jet baghouses each day.

(iv) Monitor cleaning cycles to ensure proper operation using an appropriate methodology.

(v) Check bag cleaning mechanisms for proper functioning through monthly visual inspection or equivalent means.

(vi) Make monthly visual checks of bag tension on reverse air and shaker-type baghouses to ensure that bags are not kinked (kneed or bent) or laying on their sides. You do not have to make this check for shaker-type baghouses using self-tensioning (spring-loaded) devices.

(vii) Confirm the physical integrity of the baghouse through quarterly visual inspections of the baghouse interior for air leaks.

(viii) Inspect fans for wear, material buildup, and corrosion through quarterly visual inspections, vibration detectors, or equivalent means.

* * * * *

(d) For each electrostatic precipitator subject to the opacity operating limit in § 63.7790(b)(3), you must install, operate, and maintain a COMS according to the requirements in § 63.7831(h) and monitor the hourly average opacity of emissions exiting each control device stack according to the requirements in § 63.7832.

(e) * * *

(1) Compute and record the 30-day rolling average of the oil content of the feedstock for each operating day using the procedures in § 63.7824(d); or

(2) Compute and record the 30-day rolling average of the volatile organic compound emissions (lbs/ton of sinter) for each operating day using the procedures in § 63.7824(e).

11. Section 63.7831 is amended by:

a. Revising paragraphs (a) introductory text, (a)(5) and (a)(6), and adding new paragraphs (a)(7) and (a)(8);

b. Revising paragraph (f) introductory text; and

c. Revising paragraphs (h) introductory text and (h)(4) to read as follows:

§ 63.7831 What are the installation, operation, and maintenance requirements for my monitors?

(a) For each CPMS required in § 63.7830, you must develop and make available for inspection upon request by the permitting authority a site-specific monitoring plan that addresses the requirements in paragraphs (a)(1) through (8) of this section.

* * * * *

(5) Ongoing data quality assurance procedures in accordance with the general requirements of § 63.8(d);

(6) Ongoing recordkeeping and reporting procedures in accordance with the general requirements of §§ 63.10(c), (e)(1), and (e)(2)(i);

(7) Corrective action procedures you will follow in the event a venturi scrubber exceeds the operating limit in § 63.7790(b)(2); and

(8) Corrective action procedures you will follow in the event an electrostatic precipitator exceeds the operating limit in § 63.7790(b)(3).

* * * * *

(f) For each baghouse equipped with a bag leak detection system according to § 63.7830(b)(1), you must install, operate, and maintain the bag leak detection system according to the requirements in paragraphs (f)(1) through (7) of this section.

* * * * *

(h) For each electrostatic precipitator subject to the opacity operating limit in § 63.7790(b)(3) and each baghouse equipped with a COMS according to § 63.7830(b)(2), you must install, operate, and maintain each COMS according to the requirements in paragraphs (h)(1) through (4) of this section.

* * * * *

(4) COMS data must be reduced to 6-minute averages as specified in § 63.8(g)(2) and to hourly averages where required by this subpart.

12. Section 63.7833 is amended by:

a. Revising paragraph (c);

b. Revising paragraph (d) introductory text and adding new paragraph (d)(4);

c. Revising paragraphs (e) introductory text, and (e)(1), and adding new paragraph (e)(3);

d. Revising paragraphs (f)(1)(i) and (f)(2)(i); and

e. Adding new paragraph (g) to read as follows:

§ 63.7833 How do I demonstrate continuous compliance with the emission limitations that apply to me?

* * * * *

(c) For each baghouse applied to meet any particulate emission limit in Table 1 to this subpart, you must demonstrate continuous compliance by meeting the requirements in paragraph (c)(1) or (2) of this section as applicable, and paragraphs (c)(3) and (4) of this section:

(1) For a baghouse equipped with a bag leak detection system, operating and maintaining each bag leak detection system according to § 63.7831(f) and recording all information needed to document conformance with these requirements. If you increase or decrease the sensitivity of the bag leak detection system beyond the limits specified in § 63.7831(f)(6), you must include a copy of the required written certification by a responsible official in the next semiannual compliance report.

(2) For a baghouse equipped with a COMS, operating and maintaining each COMS and reducing the COMS data according to § 63.7831(h).

(3) Inspecting each baghouse according to the requirements in § 63.7830(b)(4) and maintaining all records needed to document conformance with these requirements.

(4) Maintaining records of the time you initiated corrective action in the event of a bag leak detection system alarm or when the hourly average opacity exceeded 5 percent, the corrective action(s) taken, and the date on which corrective action was completed.

(d) For each venturi scrubber subject to the operating limits for pressure drop and scrubber water flow rate in § 63.7790(b)(2), you must demonstrate continuous compliance by meeting the requirements of paragraphs (d)(1) through (4) of this section:

* * * * *

(4) If the hourly average pressure drop or scrubber water flow rate is below the operating limits, you must follow the corrective action procedures in paragraph (g) of this section.

(e) For each electrostatic precipitator subject to the opacity operating limit in § 63.7790(b)(3), you must demonstrate continuous compliance by meeting the requirements of paragraphs (e)(1) through (3) of this section:

(1) Maintaining the hourly average opacity of emissions no higher than 10 percent; and

* * * * *

(3) If the hourly average opacity of emissions exceeds 10 percent, you must follow the corrective action procedures in paragraph (g) of this section.

(f) * * *

(1) * * *

(i) Computing and recording the 30-day rolling average of the percent oil content for each operating day according to the performance test procedures in § 63.7824(d);

* * * * *

(2) * * *

(i) Computing and recording the 30-day rolling average of the volatile organic compound emissions for each operating day according to the performance test procedures in § 63.7824(e);

* * * * *

(g) If the hourly average pressure drop or water flow rate for a venturi scrubber or hourly average opacity for an electrostatic precipitator exceeds the operating limit, you must follow the procedures in paragraphs (g)(1) through (4) of this section.

(1) You must initiate corrective action to determine the cause of the exceedance within 1 hour. During any period of corrective action, you must continue to monitor and record all required operating parameters for equipment that remains in operation. Within 24 hours of the exceedance, you must measure and record the hourly average operating parameter value for the emission unit on which corrective action was taken. If the hourly average parameter value meets the applicable operating limit, then the corrective action was successful and the emission unit is in compliance with the applicable operating limit.

(2) If the initial corrective action required in paragraph (g)(1) of this section was not successful, you must complete additional corrective action within the next 24 hours (48 hours from the time of the exceedance). During any period of corrective action, you must continue to monitor and record all required operating parameters for equipment that remains in operation. After this second 24-hour period, you must again measure and record the hourly average operating parameter value for the emission unit on which corrective action was taken. If the hourly average parameter value meets the applicable operating limit, then the corrective action was successful and the emission unit is in compliance with the applicable operating limit.

(3) For purposes of paragraphs (g)(1) and (2) of this section, in the case of an exceedance of the hourly average opacity operating limit for an electrostatic precipitator, measurements of the hourly average opacity based on visible emission observations in accordance with Method 9 (40 CFR part 60, appendix A) may be taken to evaluate the effectiveness of corrective action.

(4) If the second attempt at corrective action required in paragraph (g)(2) of this section was not successful, you must report the exceedance as a deviation in your next semiannual compliance report according to § 63.7841(b).

13. Section 63.7834 is amended by revising paragraph (a) to read as follows:

§ 63.7834 How do I demonstrate continuous compliance with the operation and maintenance requirements that apply to me?

(a) For each capture system and control device subject to an operating limit in § 63.7790(b), you must demonstrate continuous compliance with the operation and maintenance requirements in § 63.7800(b) by meeting the requirements of paragraphs (a)(1) through (4) of this section:

(1) Making monthly inspections of capture systems and initiating corrective action according to § 63.7800(b)(1) and recording all information needed to document conformance with these requirements;

(2) Performing preventative maintenance according to § 63.7800(b)(2) and recording all information needed to document conformance with these requirements;

(3) Initiating and completing corrective action for a baghouse equipped with a bag leak detection system or COMS according to § 63.7800(b)(4) and recording all information needed to document conformance with these requirements, including the time you initiated corrective action, the corrective action(s) taken, and date on which corrective action was completed.

(4) Initiating and completing corrective action for a venturi scrubber equipped with a CPMS or an electrostatic precipitator equipped with a COMS according to § 63.7833(g) and recording all information needed to document conformance with these requirements, including the time you initiated corrective action, the corrective action(s) taken within the first 24 hours according to § 63.7833(g)(1) and whether they were successful, the corrective action(s) taken within the second 24 hours according to § 63.7833(g)(2) and whether they were successful, and the date on which corrective action was completed.

* * * * *

14. Section 63.7835 is amended by revising the first sentence in paragraph (a) to read as follows:

§ 63.7835 What other requirements must I meet to demonstrate continuous compliance?

(a) Deviations. Except as provided in § 63.7833(g), you must report each instance in which you did not meet each emission limitation in § 63.7790 that applies to you. * * *

* * * * *

15. Section 63.7851 is amended by revising paragraph (c)(2) to read as follows:

§ 63.7851 Who implements and enforces this subpart?

* * * * *

(c) * * *

(2) Approval of major alternatives to test methods under § 63.7(e)(2)(ii) and (f) and as defined in § 63.90, except for approval of an alternative method for the oil content of the sinter plant feedstock or volatile organic compound measurements for the sinter plant windbox exhaust stream stack as provided in § 63.7824(f).

* * * * *

16. Section 63.7852 is amended by revising the definition of term “Ladle metallurgy” to read as follows:

§ 63.7852 What definitions apply to this subpart?

* * * * *

Ladle metallurgy means a secondary steelmaking process that is performed typically in a ladle after initial refining in a basic oxygen process furnace to adjust or amend the chemical and/or mechanical properties of steel. This definition does not include vacuum degassing.

* * * * *

17. Table 1 to subpart FFFFF of part 63 is amended by revising entries 3, 5, 6, 7, 9, 10, and 11; and by revising the footnotes to read as follows:

Table 1 to Subpart FFFFF of Part 63.—Emission and Opacity Limits
* * * * * * *
For . . . | You must comply with each of the following . . .
* * * * * * *
3. Each discharge end at an existing sinter plant | a. You must not cause to be discharged to the atmosphere any gases that exit from one or more control devices that contain, on a flow-weighted basis, particulate matter in excess of 0.02 gr/dscf ¹ ²; and
| b. You must not cause to be discharged to the atmosphere any secondary emissions that exit any opening in the building or structure housing the discharge end that exhibit opacity greater than 20 percent (6-minute average).
* * * * * * *
5. Each sinter cooler at an existing sinter plant | You must not cause to be discharged to the atmosphere any emissions that exhibit opacity greater than 10 percent (6-minute average).
6. Each sinter cooler at a new sinter plant | You must not cause to be discharged to the atmosphere any gases that contain particulate matter in excess of 0.01 gr/dscf.
7. Each casthouse at an existing blast furnace | a. You must not cause to be discharged to the atmosphere any gases that exit from a control device that contain particulate matter in excess of 0.01 gr/dscf ²; and
| b. You must not cause to be discharged to the atmosphere any secondary emissions that exit any opening in the casthouse or structure housing the blast furnace that exhibit opacity greater than 20 percent (6-minute average).
* * * * * * *
9. Each BOPF at a new or existing shop | a. You must not cause to be discharged to the atmosphere any gases that exit from a primary emission control system for a BOPF with a closed hood system at a new or existing BOPF shop that contain, on a flow-weighted basis, particulate matter in excess of 0.03 gr/dscf during the primary oxygen blow ² ³; and
| b. You must not cause to be discharged to the atmosphere any gases that exit from a primary emission control system for a BOPF with an open hood system that contain, on a flow-weighted basis, particulate matter in excess of 0.02 gr/dscf during the steel production cycle for an existing BOPF shop ² ³ or 0.01 gr/dscf during the steel production cycle for a new BOPF shop ³; and
| c. You must not cause to be discharged to the atmosphere any gases that exit from a control device used solely for the collection of secondary emissions from the BOPF that contain particulate matter in excess of 0.01 gr/dscf for an existing BOPF shop ² or 0.0052 gr/dscf for a new BOPF shop.
10. Each hot metal transfer, skimming, and desulfurization operation at a new or existing BOPF shop | You must not cause to be discharged to the atmosphere any gases that exit from a control device that contain particulate matter in excess of 0.01 gr/dscf for an existing BOPF shop ² or 0.003 gr/dscf for a new BOPF shop.
11. Each ladle metallurgy operation at a new or existing BOPF shop | You must not cause to be discharged to the atmosphere any gases that exit from a control device that contain particulate matter in excess of 0.01 gr/dscf for an existing BOPF shop ² or 0.004 gr/dscf for a new BOPF shop.
* * * * * * *
¹ This limit applies if the cooler is vented to the same control device as the discharge end.
² This concentration limit (gr/dscf) for a control device does not apply to discharges inside a building or structure housing the discharge end at an existing sinter plant, inside a casthouse at an existing blast furnace, or inside an existing BOPF shop if the control device was installed before August 30, 2005.
³ This limit applies to control devices operated in parallel for a single BOPF during the oxygen blow.

18. Table 2 to subpart FFFFF of part 63 is amended by revising entries 5 and 6 to read as follows:

Table 2 to Subpart FFFFF of Part 63.—Initial Compliance With Emission and Opacity Limits
* * * * * * *
For . . . | You have demonstrated initial compliance if . . .
* * * * * * *
5. Each sinter cooler at an existing sinter plant | The opacity of emissions, determined according to the performance test procedures in § 63.7823(e), did not exceed 10 percent (6-minute average).
6. Each sinter cooler at a new sinter plant | The average concentration of particulate matter, measured according to the performance test procedures in § 63.7822(b), did not exceed 0.01 gr/dscf.
* * * * * * *

19. Table 3 to subpart FFFFF of part 63 is revised to read as follows:

Table 3 to Subpart FFFFF of Part 63.—Continuous Compliance With Emission and Opacity Limits
[As required in § 63.7833(a), you must demonstrate continuous compliance with the emission and opacity limits according to the following table.]
For . . . | You must demonstrate continuous compliance by . . .
1. Each windbox exhaust stream at an existing sinter plant | a. Maintaining emissions of particulate matter at or below 0.4 lb/ton of product sinter; and
| b. Conducting subsequent performance tests at the frequencies specified in § 63.7821.
2. Each windbox exhaust stream at a new sinter plant | a. Maintaining emissions of particulate matter at or below 0.3 lb/ton of product sinter; and
| b. Conducting subsequent performance tests at the frequencies specified in § 63.7821.
3. Each discharge end at an existing sinter plant | a. Maintaining emissions of particulate matter from one or more control devices at or below 0.02 gr/dscf; and
| b. Maintaining the opacity of secondary emissions that exit any opening in the building or structure housing the discharge end at or below 20 percent (6-minute average); and
| c. Conducting subsequent performance tests at the frequencies specified in § 63.7821.
4. Each discharge end at a new sinter plant | a. Maintaining emissions of particulate matter from one or more control devices at or below 0.01 gr/dscf; and
| b. Maintaining the opacity of secondary emissions that exit any opening in the building or structure housing the discharge end at or below 10 percent (6-minute average); and
| c. Conducting subsequent performance tests at the frequencies specified in § 63.7821.
5. Each sinter cooler at an existing sinter plant | a. Maintaining the opacity of emissions that exit any sinter cooler at or below 10 percent (6-minute average); and
| b. Conducting subsequent performance tests at the frequencies specified in § 63.7821.
6. Each sinter cooler at a new sinter plant | a. Maintaining emissions of particulate matter at or below 0.1 gr/dscf; and
| b. Conducting subsequent performance tests at the frequencies specified in § 63.7821.
7. Each casthouse at an existing blast furnace | a. Maintaining emissions of particulate matter from a control device at or below 0.01 gr/dscf; and
| b. Maintaining the opacity of secondary emissions that exit any opening in the casthouse or structure housing the casthouse at or below 20 percent (6-minute average); and
| c. Conducting subsequent performance tests at the frequencies specified in § 63.7821.
8. Each casthouse at a new blast furnace | a. Maintaining emissions of particulate matter from a control device at or below 0.003 gr/dscf; and
| b. Maintaining the opacity of secondary emissions that exit any opening in the casthouse or structure housing the casthouse at or below 15 percent (6-minute average); and
| c. Conducting subsequent performance tests at the frequencies specified in § 63.7821.
9. Each BOPF at a new or existing BOPF shop | a. Maintaining emissions of particulate matter from the primary control system for a BOPF with a closed hood system at or below 0.03 gr/dscf; and
| b. Maintaining emissions of particulate matter from the primary control system for a BOPF with an open hood system at or below 0.02 gr/dscf for an existing BOPF shop or 0.01 gr/dscf for a new BOPF shop; and
| c. Maintaining emissions of particulate matter from a control device applied solely to secondary emissions from a BOPF at or below 0.01 gr/dscf for an existing BOPF shop or 0.0052 gr/dscf for a new BOPF shop; and
| d. Conducting subsequent performance tests at the frequencies specified in § 63.7821.
10. Each hot metal transfer, skimming, and desulfurization operation at a new or existing BOPF shop | a. Maintaining emissions of particulate matter from a control device at or below 0.01 gr/dscf at an existing BOPF or 0.003 gr/dscf for a new BOPF; and
| b. Conducting subsequent performance tests at the frequencies specified in § 63.7821.
11. Each ladle metallurgy operation at a new or existing BOPF shop | a. Maintaining emissions of particulate matter from a control device at or below 0.01 gr/dscf at an existing BOPF shop or 0.004 gr/dscf for a new BOPF shop; and
| b. Conducting subsequent performance tests at the frequencies specified in § 63.7821.
12. Each roof monitor at an existing BOPF shop | a. Maintaining the opacity of secondary emissions that exit any opening in the BOPF shop or other building housing the BOPF shop or shop operation at or below 20 percent (3-minute average); and
| b. Conducting subsequent performance tests at the frequencies specified in § 63.7821.
13. Each roof monitor at a new BOPF shop | a. Maintaining the opacity (for any set of 6-minute averages) of secondary emissions that exit any opening in the BOPF shop or other building housing a bottom-blown BOPF or shop operation at or below 10 percent, except that one 6-minute period greater than 10 percent but no more than 20 percent may occur once per steel production cycle; and
| b. Maintaining the opacity (for any set of 3-minute averages) of secondary emissions that exit any opening in the BOPF shop or other building housing a top-blown BOPF or shop operation at or below 10 percent, except that one 3-minute period greater than 10 percent but less than 20 percent may occur once per steel production cycle; and
| c. Conducting subsequent performance tests at the frequencies specified in § 63.7821.

20. Table 4 to subpart FFFFF of part 63 is amended as follows:

a. By revising entry § 63.6(h)(2)(i).

b. By adding entries § 63.6(i) and § 63.6(j).

c. By revising entries §§ 63.8 through 63.10.

* * * * *

Table 4 to Subpart FFFFF of part 63.—Applicability of General Provisions to Subpart FFFFF
* * * * * * *
Citation | Subject | Applies to Subpart FFFFF | Explanation
* * * * * * *
§ 63.6(h)(2)(i) | Determining Compliance with Opacity and VE Standards | No | Subpart FFFFF specifies methods and procedures for determining compliance with opacity emission and operating limits.
§ 63.6(i) | Extension of Compliance with Emission Standards | Yes
§ 63.6(j) | Exemption from Compliance with Emission Standards | Yes
* * * * * * *
§ 63.8(a)(1)-(3), (b), (c)(1)-(3), (c)(4)(i)-(ii), (c)(5)-(6), (c)(7)-(8), (f)(1)-(5), (g)(1)-(4) | Monitoring Requirements | Yes | CMS requirements in §§ 63.8(c)(4)(i)-(ii), (c)(5)-(6), (d), and (e) apply only to COMS.
§ 63.8(a)(4) | Additional Monitoring Requirements for Control Devices in § 63.11 | No | Subpart FFFFF does not require flares.
§ 63.8(c)(4) | Continuous Monitoring System Requirements | No | Subpart FFFFF specifies requirements for operation of CMS.
§ 63.8(f)(6) | RATA Alternative | No
§ 63.8(g)(5) | Data Reduction | No | Subpart FFFFF specifies data reduction requirements.
§ 63.9 | Notification Requirements | Yes | Additional notifications for CMS in § 63.9(g) apply only to COMS.
§ 63.10(a), (b)(1), (b)(2)(i)-(xii), (b)(2)(xiv), (b)(3), (c)(1)-(6), (c)(9)-(15), (d), (e)(1)-(2), (e)(4), (f) | Recordkeeping and Reporting Requirements | Yes | Additional records for CMS in § 63.10(c)(1)-(6), (9)-(15), and reports in § 63.10(d)(1)-(2) apply only to COMS.
§ 63.10(b)(2) (xiii) | CMS Records for RATA Alternative | No
§ 63.10(c)(7)-(8) | Records of Excess Emissions and Parameter Monitoring Exceedances for CMS | No | Subpart FFFFF specifies record requirements.
§ 63.10(e)(3) | Excess Emission Reports | No | Subpart FFFFF specifies reporting requirements
* * * * * * *

[FR Doc. 06-6174 Filed 7-12-06; 8:45 am]

BILLING CODE 6560-50-P